NATIONAL AERONAUTICS AND SPACE ADMINISTRATION

[Notice 04-093]

Government-Owned Inventions, Available for Licensing

AGENCY: National Aeronautics and Space Administration.

ACTION: Notice of prospective patent license.

SUMMARY: NASA hereby gives notice that Phoenix Systems International, Inc. of McDonald, OH, has applied for an exclusive worldwide (excluding the United States) license to practice the invention described and claimed in PCT Case No. KSC-12518-2-PCT entitled “Hydrogen Peroxide Catalytic Decomposition,” which is assigned to the United States of America as represented by the Administrator of the National Aeronautics and Space Administration. Written objections to the prospective grant of an exclusive license to Phoenix Systems International, Inc. should be sent to Office of the Chief Counsel, John F. Kennedy Space Center, Kennedy Space Center, FL 32899.

DATES: Responses to this notice must be received by August 13, 2004.

FOR FURTHER INFORMATION CONTACT: Randy Heald, Patent Counsel/Assistant Chief Counsel, NASA, Office of the Chief Counsel, John F. Kennedy Space Center, Mail Code CC-A, Kennedy Space Center, FL 32899; telephone (321) 867-7214.

Dated: July 21, 2004.
Keith T. Sefton,
Deputy General Counsel (Administration and Management).

[FR Doc. 04-17265 Filed 7-28-04; 8:45 am]

BILLING CODE 7510-01-P